FEDERAL COMMUNICATIONS COMMISSION

Public Information Collection Approved by Office of Management and Budget

June 28, 2001.

The Federal Communications Commission (FCC) has received Office of Management and Budget (OMB) approval for the following public information collections pursuant to the Paperwork Reduction Act of 1995, Public Law 96-511. An agency may not conduct or sponsor a collection of information unless it displays a currently valid control number. Not withstanding any other provisions of law, no person shall be subject to any penalty for failing to comply with a collection of information subject to the Paperwork Reduction Act (PRA) that does not display a valid control number. Questions concerning the OMB control numbers and expiration dates should be directed to Judy Boley, Federal Communications Commission, (202) 418-0214.

Federal Communications Commission

OMB Control No.: 3060-0978.

Expiration Date: 06/30/04.

Title: Revision of the Commission's Rules to Ensure Compatibility with Enhanced 911 Emergency Calling Systems, Fourth R&O.

Form No.: N/A.

Estimated Annual Burden: 32,000 burden hours annually, 2 hours per response; 16,000 responses.

Description: The information submitted in the quarterly reports will be used by the Commission to keep track of the carriers' progress in complying with E911 TTY requirements and also to monitor the progress technology is making towards compatibility with TTY devices.

Federal Communications Commission.
Magalie Roman Salas,
Secretary.

[FR Doc. 01-16791 Filed 7-3-01; 8:45 am]

BILLING CODE 6712-01-P